DEPARTMENT OF AGRICULTURE

Forest Service

Information Collection; Role of Communities in Stewardship Contracting Projects

AGENCY: Forest Service, USDA.

ACTION: Notice; request for comment.

SUMMARY: In accordance with the Paperwork Reduction Act of 1995, the Forest Service is seeking comments from all interested individuals and organizations on the extension with revision of a currently approved information collection, Role of Communities in Stewardship Contracting Projects.

DATES: Comments must be received in writing on or before September 23, 2019 to be assured of consideration. Comments received after that date will be considered to the extent practicable.

ADDRESSES: Comments concerning this notice should be addressed to Director, Forest Management, Range Management and Vegetation Ecology Staff, Mail Stop 1103, Forest Service, USDA, 201 14th Street SW, Washington DC 20024-1103.

Comments also may be submitted by email to: InfoCollection0201@fs.fed.us. Comments may also be submitted via the world wide web/internet at http://www.regulations.gov.

The public may inspect comments received at the Office of the Director, Forest Management Staff, Third Floor NE, Yates Federal Building, 201 14th Street SW, Washington, DC, during normal business hours. Visitors are encouraged to call ahead to 202-649-1725 to facilitate entry to the building.

FOR FURTHER INFORMATION CONTACT: David Wilson, Forest Service, Forest Management Staff, (202) 578-9916. Individuals who use telecommunication devices for the deaf (TDD) may call the Federal Relay Service (FRS) at 1-800-877-8339 twenty-four hours a day, every day of the year, including holidays.

SUPPLEMENTARY INFORMATION:

Title: Role of Communities in Stewardship Contracting Projects.

OMB Number: 0596-0201.

Expiration Date of Approval: 10/31/2019.

Type of Request: Renewal of a Previously Approved Collection.

Abstract: The Forest Service and Bureau of Land Management are required to report to Congress annually on the role of local communities in the development of agreement or contract plans through stewardship contracting, per Section 323 of Public Law 108-7 (16 U.S.C. 2104 Note). To meet the requirement, the Forest Service conducts surveys to gather the necessary information for use by both the Forest Service and Bureau of Land Management. The survey provides information regarding the:

(a) Nature of the local community involved in developing agreement or contract plans,

(b) Nature of roles played by the entities involved in developing agreement or contract plans,

(c) Benefits to the community and agency by being involved in planning and development of contract plans, and

(d) Usefulness of stewardship contracting in helping meet the needs of local communities.

The Pinchot Institute for Conservation and its sub-contractors collect the information through an annual telephone survey. The survey asks Federal employees, employees of for-profit and not-for-profit institutions, employees of State and local agencies, and individual citizens who have been involved in stewardship contracting projects about their role in the development of agreement or contract plans.

The information collected through the survey is analyzed by the Pinchot Institute for Conservation and its sub-contractors and used to help develop the Forest Service and reports to Congress as required by Section 323 of Public Law 108-7.

Without the information from this annual collection of data, the Forest Service will not be able to provide the required annual reports to Congress on the role of communities in development of agreement or contract plans under stewardship contracting.

Type of Respondents: Employees of for-profit and non-profit businesses and institutions, as well as individuals.

Estimated Annual Number of Respondents: 90.

Estimate of Burden per Response: 0.75 hours.

Estimated Annual Number of Responses per Respondent: 1.

Estimated Total Annual Burden on Respondents: 68 Hours.

Comment Is Invited

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: July 2, 2019.
Frank R. Beum,
Acting Associate Deputy Chief, National Forest Systems.

[FR Doc. 2019-15707 Filed 7-23-19; 8:45 am]

BILLING CODE 3411-15-P